DEPARTMENT OF HEALTH AND HUMAN SERVICES

National Institutes of Health

National Institute on Aging; Amended Notice of Meeting

Notice is hereby given of a change in the meeting of the National Institute on Aging Special Emphasis Panel, March 15, 2021, 10:00 a.m. to March 15, 2021, 07:00 p.m., National Institute on Aging, Gateway Building, 7201 Wisconsin Avenue, Bethesda, MD 20892, which was published in the Federal Register on February 04, 2021, 86 FR 8215.

The meeting notice is amended to change the date of the meeting from March 1, 2021 to March 15, 2021. The meeting is closed to the public.

Dated: February 12, 2021.
Miguelina Perez,
Program Analyst, Office of Federal Advisory Committee Policy.

[FR Doc. 2021-03255 Filed 2-17-21; 8:45 am]

BILLING CODE 4140-01-P